DEPARTMENT OF COMMERCE

International Trade Administration

[A-533-877]

Stainless Steel Flanges From India: Final Results of Antidumping Duty Administrative Review; 2019-2020

AGENCY: Enforcement and Compliance, International Trade Administration, Department of Commerce.

SUMMARY: The Department of Commerce (Commerce) determines that exporters/producers of stainless steel flanges from India made sales of subject merchandise at prices below normal value during the period of review (POR) October 1, 2019, through September 30, 2020.

DATES: Applicable May 9, 2022.

FOR FURTHER INFORMATION CONTACT: Benito Ballesteros or Christopher Maciuba, AD/CVD Operations, Office V, Enforcement and Compliance, International Trade Administration, U.S. Department of Commerce, 1401 Constitution Avenue NW, Washington, DC 20230; telephone: (202) 482-7425 or (202) 482-0413, respectively.

SUPPLEMENTARY INFORMATION:

Background

Commerce selected two companies, Chandan Steel Limited (Chandan) and Kisaan Die Tech Private Limited (KDT), for individual examination. On November 4, 2021, Commerce published the Preliminary Results and invited interested parties to comment.¹ On January 7, 2022, Chandan, Echjay Forgings Private Limited (Echjay), and the petitioner ² submitted case briefs.³ From January 19 to 21, 2022, KDT, the petitioner, and Chandan submitted rebuttal briefs.⁴ On February 15, 2022, we extended the deadline for issuance of these final results to May 3, 2022.⁵ For a complete description of the events that occurred since the Preliminary Results, see the Issues and Decision Memorandum.⁶ Commerce conducted this administrative review in accordance with section 751 of the Tariff Act of 1930, as amended (the Act).

¹ See Stainless Steel Flanges from India: Preliminary Results of Antidumping Duty Administrative Review, Preliminary Successor-in-Interest Determination, and Partial Rescission; 2019-2020, 86 FR 60792 (November 4, 2021) (Preliminary Results).

² The petitioner is the Coalition of American Flange Producers.

³ See Chandan's Letter, “Certain Stainless-steel Flanges from India (A-533-877-AR2): Case Brief,” dated January 7, 2022; see also Echjay's Letter, “Stainless Steel Flanges from India,” dated January 7, 2022; and Petitioner's Letter, “Case Brief,” dated January 7, 2022.

⁴ See KDT's Letter, “KDT's Rebuttal to Petitioners Case Brief,” dated January 19, 2022; see also Petitioner's Letter, “Rebuttal Brief,” dated January 20, 2022; and Chandan's Letter, “Rebuttal Brief on behalf of Chandan Steel,” dated January 21, 2022.

⁵ See Memorandum, “Stainless Steel Flanges from India: Extension of Deadline for Final Results of Antidumping Duty Administrative Review, 2019-2020,” dated February 15, 2022.

⁶ See Memorandum, “Stainless Steel Flanges from India: Issues and Decision Memorandum for the Final Results of the Antidumping Duty Administrative Review; 2019-2020,” dated May 3, 2022 (Issues and Decision Memorandum) which is dated concurrently with, and hereby adopted by, this notice.

Scope of the Order

The merchandise covered by the order is stainless steel flanges from India. For a complete description of the scope of this order, see the Issues and Decision Memorandum.⁷

⁷ Id.

Analysis of Comments Received

We addressed all issues raised in the case and rebuttal briefs in the Issues and Decision Memorandum.⁸ Attached to this notice, in Appendix I, is a list of the issues which parties raised. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁸ Id.

Changes Since the Preliminary Results

Based on the comments received from interested parties and record information, we made certain changes to the margin calculations for Chandan and KDT. For a discussion of these changes, see the Issues and Decision Memorandum.⁹

⁹ Id.

Rate for Companies Not Selected for Individual Examination

The Act and Commerce's regulations do not address the rate to be applied to companies not selected for individual examination when Commerce limits its examination in an administrative review pursuant to section 777A(c)(2) of the Act. Generally, Commerce looks to section 735(c)(5) of the Act, which provides instructions for calculating the all-others rate in a less-than-fair-value (LTFV) investigation, for guidance. Under section 735(c)(5)(A) of the Act, the all-others rate is normally “an amount equal to the weighted-average of the estimated weighted-average dumping margins established for exporters and producers individually investigated, excluding any zero or de minimis margins, and any margins determined entirely {on the basis of facts available}.”

For the final results, Commerce calculated estimated weighted-average dumping margins for Chandan and KDT that are not zero, de minimis, or based entirely on facts otherwise available. Accordingly, Commerce has continued to calculate the rate for companies not selected for individual examination using a weighted average of the margins calculated for Chandan and KDT weighted by each respondent's publicly-ranged total U.S. sale values.¹⁰

¹⁰ With more than one respondent under examination, Commerce normally calculates: (A) A weighted average of the estimated weighted-average dumping margins calculated for the examined respondents; (B) a simple average of the estimated weighted-average dumping margins calculated for the examined respondents; and (C) a weighted average of the estimated weighted-average dumping margins calculated for the examined respondents using each company's publicly-ranged U.S. sale values for the merchandise under consideration. Commerce then compares (B) and (C) to (A) and selects either the (B) or (C) rate based on the rate closest to (A) as the most appropriate rate for companies not selected for individual examination. See, e.g., Ball Bearings and Parts Thereof from France, Germany, Italy, Japan, and the United Kingdom: Final Results of Antidumping Duty Administrative Reviews, Final Results of Changed-Circumstances Review, and Revocation of an Order in Part, 75 FR 53661, 53663 (September 1, 2010). In this review, Commerce based the rate for companies not selected for individual examination on the publicly-ranged sales data of the mandatory respondents. For an analysis of the data, see Memorandum, “Final Results of the Antidumping Duty Administrative Review of Stainless Steel Flanges from India: Calculation of Margin for Respondents Not Selected for Individual Examination,” dated May 3, 2022.

Final Results of Administrative Review

The final estimated weighted-average dumping margins are listed below for the POR, October 1, 2019, through September 30, 2020:

Exporter/producer | Estimated weighted- average dumping margin (percent)
Chandan Steel Limited | 3.66
Kisaan Die Tech Private Limited | 1.27
Companies Not Selected for Individual Examination ¹¹ | 3.40

Disclosure

We intend to disclose the calculations performed for the final results within five days of the publication of this notice in the Federal Register, in accordance with 19 CFR 351.224(b).

¹¹ See Appendix II for a full list of these companies.

Assessment Rates

Pursuant to section 751(a)(2)(C) of the Act, and 19 CFR 351.212(b)(1), Commerce has determined, and U.S. Customs and Border Protection (CBP) shall assess, antidumping duties on all appropriate entries of subject merchandise covered by this review. Pursuant to 19 CFR 351.212(b)(1), for Chandan and KDT, we calculated importer-specific ad valorem assessment rates based on the ratio of the total amount of dumping calculated for the examined sales to the total entered value of the sales.

For the companies which were not selected for individual examination, we will assign an assessment rate based on the methodology described in the “Rate for Companies Not Selected for Individual Examination” section, above.

We intend to issue appropriate assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the notice of the final results of this administrative review for all shipments of the subject merchandise entered, or withdrawn from warehouse, for consumption on or after the publication date, as provided for by section 751(a)(2) of the Act: (1) The cash deposit rate for Chandan, KDT, and the companies not selected for individual examination will be the rate established in the final results of this administrative review; (2) for merchandise exported by producers or exporters not covered by this review but covered in a prior segment of this proceeding, the cash deposit rate will continue to be the company-specific rate published for the most recently-completed segment of this proceeding; (3) if the exporter is not a firm covered by this review, a previous review, or the original LTFV investigation, but the producer is, then the cash deposit rate will be the rate established for the most recently-completed segment of this proceeding for the producer of the merchandise; (4) the case deposit rate for all other producers or exporters will continue to be 7.00 percent,¹² the all-others rate established in the LTFV investigation. These cash deposits, when imposed, shall remain in effect until further notice.

¹² See Stainless Steel Flanges from India: Notice of Court Decision Not in Harmony with the Final Determination of Antidumping Investigation; Notice of Amended Final Determination, 86 FR 50325 (August 30, 2021).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing this notice in accordance with sections 751(a)(1) and 777(i) of the Act, and 19 CFR 351.221(b)(5).

Dated: May 3, 2022.
Lisa W. Wang,
Assistant Secretary for Enforcement and Compliance.

Appendix I—List of Topics Discussed in the Issues and Decision Memorandum

I. Summary

II. Background

III. Scope of the Order

IV. Successor-in-Interest Determination

V. Changes Since the Preliminary Results

VI. Discussion of the Issues

General Issue

Comment 1: Whether to Reject the Petitioner's Rebuttal Factual Information (RFI)

Chandan-Specific Issues

Comment 2: Whether Chandan Properly Reported Finishing Stage

Comment 3: Whether Chandan Properly Reported Quantity

Comment 4: Whether Chandan Properly Reported All Sales of Foreign Like Product

Comment 5: Whether to Allow Certain Reported Billing Adjustments

Comment 6: Whether Chandan Received Full Payment from Certain U.S. Customers

Comment 7: Whether Chandan Properly Reported Its Inventory Movement Schedule

Comment 8: Whether Chandan Properly Reported Its Steel Grades

Comment 9: Application of Adverse Facts Available (AFA) to Chandan Echjay-Specific Issue

Comment 10: Whether to Treat Echjay as a Non-Examined Respondent KDT-Specific Issues

Comment 11: Application of AFA for Failure to Properly Report Certain Sales

Comment 12: Application of AFA for Failure to Timely Report Certain Affiliates

VII. Recommendation

Appendix II—List of Companies Not Selected for Individual Examination

Ae Engineers & Exporters

Balkrishna Steel Forge Pvt. Ltd.

BFN Forgings Private Limited (former name Bebitz Flanges Works Private Limited) ¹³

¹³ We find that BFN Forgings Private Limited is the successor-in-interest to Bebitz Flanges Works Private Limited. See IDM. This determination is unchanged from the Preliminary Results. See Preliminary Results PDM at “Preliminary Successor-In-Interest Determination” for full discussion.

Broadway Overseas Ltd.

Dongguan Good Luck Furniture Industrial Co., Ltd.

DSV Air and Sea Pvt. Ltd.

DSV Logistics

G.I. Auto Pvt. Ltd.

Jai Auto Pvt. Ltd.

Jay Jagdamba Forgings Private Limited

Jay Jagdamba Limited ¹⁴

¹⁴ We also initiated a review of this company under the name “Jay Jagdamba Ltd.” We are treating these companies as the same entity for purposes of this segment of the proceeding.

Jay Jagdamba Profile Private Limited

Katariya Steel Distributors

Lotus CNC Components

Motor Aids

Shree Jay Jagdamba Flanges Private Limited

Transworld Enterprises

Transworld Group

Viraj Profiles Ltd.

[FR Doc. 2022-09911 Filed 5-6-22; 8:45 am]

BILLING CODE 3510-DS-P